DEPARTMENT OF DEFENSE

Office of the Secretary of Defense

Meeting of the Technology and Privacy Advisory Committee (TAPAC)

AGENCY: DoD.

ACTION: Notice of meeting.

SUMMARY: Notice is hereby given of a forthcoming open meeting of the Technology and Privacy Advisory Committee. The purpose of the meeting is for presentations of interest and discussion concerning the legal and policy considerations implicated by the application of advanced information technologies to counter-terrorism and counter-intelligence missions. Due to administrative error, this notice is given less than 15 days before the meeting date.

DATES: Thursday, June 19, 2003, 9 a.m. to 5 p.m.

ADDRESSES: Hyatt Arlington, 1325 Wilson Blvd., Arlington, VA, 22209.

FOR FURTHER INFORMATION CONTACT: Ms. Lisa Davis, TAPAC Executive Driector, The Pentagon, Room 3E1045, Washington, DC 20301-3330, Telephone 703-695-0903.

Dated: June 4, 2003.
Patricia L. Toppings,
Alternate OSD Federal Register Liaison Officer, Department of Defense.

[FR Doc. 03-14811 Filed 6-6-03; 3:24 pm]

BILLING CODE 5001-08-M